NUCLEAR REGULATORY COMMISSION

[Docket Nos. 72-15 and 50-219; License No. DPR-16]

Amergen Energy Company, LLC., Oyster Creek Generating Station; Notice of Issuance of Director's Decision

Notice is hereby given that the Director, Office of Nuclear Material Safety and Safeguards, U.S. Nuclear Regulatory Commission (NRC), has issued a Director's Decision with regard to a petition dated June 21, 2002, filed by Ms. Edith Gbur of the Jersey Shore Nuclear Watch, et al., hereinafter referred to as the “petitioners.” The Petition concerns the operation of AmerGen Energy Company's Oyster Creek Independent Spent Fuel Storage Installation (ISFSI). The petitioners requested NRC to take the following actions:

1. Suspend Certificate of Compliance (CoC) No. 1004 for the NUHOMS dry spent fuel storage system.

2. Halt transfer of spent fuel from wet pool storage to dry storage modules at the Oyster Creek Generating Station (Oyster Creek).

3. Conduct a site-specific public hearing before independent judges on the dry cask licensing proceeding for Oyster Creek and other nuclear issues identified in the petition.

4. Make a determination of the NUHOMS' capability to withstand terrorist attacks similar to those on September 11, 2001.

5. Develop criteria and regulations to empirically verify dry storage system capability and to apply those requirements to Oyster Creek.

6. Halt loading until a thorough inspection of the total system has been completed to verify that the NUHOMS modules were fabricated properly and will last the design life.

As the basis for the request, the petitioners presented safety concerns in the following areas:

1. Location of the Oyster Creek independent spent fuel storage installation (ISFSI) relative to local roads and communities;

2. Ability of the NUHOMS dry spent fuel storage system to survive a sabotage attack;

3. Adequacy of Oyster Creek security measures for fuel-handling activities;

4. Adequacy of the Oyster Creek emergency evacuation plan; and

5. Quality of the NUHOMS systems planned for use at Oyster Creek.

The petitioners addressed the NRC Petition Review Board in a teleconference on July 18, 2002, to clarify the bases for the petition. The meeting was held to provide the petitioners and licensee an opportunity to present additional information and to clarify issues raised in the petition. Subsequently, the petitioners sent NRC a series of form letters signed by various members of the public in August 2002, to demonstrate additional support for the petition. On November 8, 2002, NRC received additional form letters forwarded by the petitioners. The NRC sent a copy of the proposed Director's Decision to the petitioners and AmerGen for comment on December 10, 2002. The petitioners responded with comments by e-mails dated February 6, March 5, 10, and 19, 2003. The comments and the staff responses to them are available electronically through NRC's Public Electronic Reading Room at http://www.nrc.gov/reading-rm/adams.html under docket number 07200015.

The Director of the Office of Nuclear Material Safety and Safeguards has determined that the six requests of the petitioner are denied. The reasons for this decision are explained in the Director's Decision pursuant to 10 CFR 2.206 [DD-03-01], the complete text of which is available in ADAMS for inspection at the Commission's Public Document Room, located at One White Flint North, 11555 Rockville Pike (first floor), Rockville, Maryland, and via the NRC's Web site (http://www.nrc.gov) on the World Wide Web, under the “Public Involvement” icon.

The Director's Decision addressed the petitioner's requested actions as follows:

1. Suspend CoC No. 1004 for the NUHOMS dry spent fuel storage system, halt transfer of spent fuel from wet pool storage to dry storage modules at Oyster Creek, and halt loading of all NUHOMS systems until a thorough inspection has been completed to verify compliance with fabrication requirements.

The NRC staff found no safety basis for NRC immediately suspending CoC No. 1004 and prohibiting transfer of spent fuel from wet pool storage to dry storage modules at Oyster Creek, but would continue to consider the request as our safety review proceeded. Based on the staff's safety review, as detailed in the Director's Decision, NRC found no basis for suspending CoC No. 1004 nor disallowing transfer of spent fuel from wet storage to dry storage at Oyster Creek.

2. Conduct a site-specific public hearing before independent judges on the dry cask licensing proceeding for Oyster Creek and other nuclear issues identified in the petition.

Based on the staff's review, as detailed in the Director's Decision, NRC found no basis to conduct a hearing on the Oyster Creek ISFSI activities nor for the other concerns identified in the petition.

3. Make a determination of the NUHOMS's capability to withstand terrorist attacks similar to those on September 11, 2001.

The NRC, other Federal, State, and local agencies, and the nuclear industry has implemented a significant number of measures to prevent and mitigate terrorist attacks similar to those on September 11, 2001. These measures are summarized in the Director's Decision. In addition, although dry spent fuel storage systems are not specifically assessed as to their ability to withstand the impact of a commercial aircraft, the design of the storage systems must have the capability to provide for the protection of public health and safety against naturally occurring events. This includes flying debris from tornadoes or hurricanes, and seismic events. To provide this level of protection, the design must be robust. This robustness prevents the dispersion of radioactive materials under analyzed accident conditions. The inherent robustness of the design will limit the release of radioactive materials under a terrorist attack, and continue to protect public health and safety.

4. Develop criteria and regulations to empirically verify dry storage system capability and to apply those requirements to the Oyster Creek storage design prior to approval.

The NRC technical review includes evaluating storage design characteristics such as structural, thermal, radiation shielding, radioactive material confinement, nuclear criticality, material interactions, and overall performance. As discussed in the Director's Decision, the NUHOMS design has been analyzed using industry standards for material characteristics based on empirical data for design life performance. Dry storage systems are evaluated using conservative analysis and assumptions to store the spent fuel safely for a design life of 20 years, at a minimum.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 17th day of April, 2003.
For the Nuclear Regulatory Commission.
Martin J. Virgilio,
Director, Office of Nuclear Material Safety and Safeguards.

[FR Doc. 03-10394 Filed 4-25-03; 8:45 am]

BILLING CODE 7590-01-P